DEPARTMENT OF AGRICULTURE

Forest Service

Information Collection; Wood Innovations Funding Opportunity Program (CFDA 10.674)

AGENCY: Forest Service, Agriculture (USDA).

ACTION: Notice; request for comment.

SUMMARY: The grants and agreements awarded under this announcement will support the Agriculture Improvement Act of 2018, Rural Revitalization Technologies, Infrastructure Investment and Jobs Act (commonly known as the Bipartisan Infrastructure Law), Inflation Reduction Act of 2022, and the nationwide challenge of disposing of hazardous fuels and other wood residues from the National Forest System lands and other forest lands in a manner that supports wood products and wood energy markets. The intent of the Wood Innovations funding opportunity is to stimulate, expand, and support U.S. wood products markets and wood energy markets to support the long-term management of National Forest System and other forest lands.

DATES: Comments related to the collection of information must be submitted by July 17, 2023 to be assured of consideration. Comments received after that date will be considered to the extent practicable.

ADDRESSES: Comments concerning this notice should be addressed to: Kevin Naranjo, USDA, Forest Service, Cooperative Forestry, 201 14th Street SW, 3NW, Washington, DC 20250.

Comments may also be submitted via email to: kevin.naranjo@usda.gov.

The public may inspect comments received at USDA Forest Service, Washington Office during normal business hours. Visitors are encouraged to call ahead to 202-205-0995 to facilitate entry to the building. The public may request an electronic copy of the draft supporting statement and/or any comments received be sent via return email. Requests should be emailed to kevin.naranjo@usda.gov.

FOR FURTHER INFORMATION CONTACT: Kevin Naranjo, Wood Innovations, Cooperative Forestry, at 404-673-3482, or by electronic mail to kevin.naranjo@usda.gov. Individuals who use telecommunication devices for the deaf and hard of hearing (TDD) may call the Federal Relay Service (FRS) at 800-877-8339, 24 hours a day, every day of the year, including holidays.

SUPPLEMENTARY INFORMATION: Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

Title: Wood Innovations Funding Opportunity Program.

OMB Number: 0596-0256.

Expiration Date of Approval: 07/31/2023.

Type of Request: Extension with no Revision of a currently approved information collection.

Abstract: The grants and agreements awarded under this announcement will support the Agriculture Improvement Act of 2018 Public Law 115-334, Rural Revitalization Technologies 7 U.S.C. 6601, Infrastructure Investment and Jobs Act (commonly known as the Bipartisan Infrastructure Law) Public Law 117-58, Inflation Reduction Act of 2022 Pubic Law 117-169, and the nationwide challenge of disposing of hazardous fuels and other wood residues from the National Forest System lands and other forest lands in a manner that supports wood products and wood energy markets. The intent of the Wood Innovations funding opportunity is to stimulate, expand, and support U.S. wood products markets and wood energy markets to support the long-term management of National Forest System lands and other forest lands.

Eligible applicants are for-profit entities; state and local governments; Indian Tribes; school districts; community, not-for-profit organizations; institutions of higher education; and special purpose districts (e.g., public utilities districts, fire districts, conservation districts, and ports).

Affected Public: Individuals and Households, the Private Sector (Businesses and Non-Profit Organizations, and/or State, Local or Tribal Government.

Burden Hours for Public Applicants

Title of Collection: Burden Hours for FS-1500-0050: Wood Innovations Funding Opportunity Application.

Estimate of Annual Burden: 330.00 hours.

Type of Respondents: Public applicants.

Estimated Annual Number of Respondents: 110.

Estimated Annual Number of Responses per Respondent: 1.

Estimated Total Annual Burden on Respondents: 3.00 hours.

Title of Collection: Burden Hours for Screenshot of active or in-process SAM.gov registration.

Estimate of Annual Burden: 110.00 hours.

Type of Respondents: Public applicants.

Estimated Annual Number of Respondents: 110.

Estimated Annual Number of Responses per Respondent: 1.

Estimated Total Annual Burden on Respondents: 1 hours.

Total Annual Burden for FS-1500-50 and Screenshot of Same Is 440 Hours

Request for Common Use Forms

Title of Collection: Burden Hours for SF-424: Application for Federal Assistance.

Estimate of Annual Burden: 110.00 hours.

Type of Respondents: Public applicants.

Estimated Annual Number of Respondents: 110.

Estimated Annual Number of Responses per Respondent: 1.

Estimated Total Annual Burden on Respondents: 1.00 hours.

Title of Collection: Burden Hours for SF-424A: Budget Information for Non-Construction Programs.

Estimate of Annual Burden: 55.00 hours.

Type of Respondents: Public applicants.

Estimated Annual Number of Respondents: 110.

Estimated Annual Number of Responses per Respondent: 1.

Estimated Total Annual Burden on Respondents: 0.50 hours.

Title of Collection: Burden Hours for SF-424B: Assurances for Non-Construction Programs.

Estimate of Annual Burden: 27.50 hours.

Type of Respondents: Public applicants.

Estimated Annual Number of Respondents: 110.

Estimated Annual Number of Responses per Respondent: 1.

Estimated Total Annual Burden on Respondents: 0.25 hours.

Title of Collection: Burden Hours for FS-1500-35: Certificate Regarding Lobbying Activities.

Estimate of Annual Burden: 27.50 hours.

Type of Respondents: Public applicants.

Estimated Annual Number of Respondents: 110.

Estimated Annual Number of Responses per Respondent: 1.

Estimated Total Annual Burden on Respondents: 0.25 hours.

Title of Collection: Burden Hours for FS-1500-22: Financial Capability Questionnaire.

Estimate of Annual Burden: 27.50 hours.

Type of Respondents: Public applicants.

Estimated Annual Number of Respondents: 110.

Estimated Annual Number of Responses per Respondent: 1.

Estimated Total Annual Burden on Respondents: 0.25 hours.

Title of Collection: Burden Hours for Interim Project Progress Report.

Estimate of Annual Burden: 82.50 hours.

Type of Respondents: Public applicants.

Estimated Annual Number of Respondents: 110.

Estimated Annual Number of Responses per Respondent: 1.

Estimated Total Annual Burden on Respondents: 0.75 hours.

Title of Collection: Burden Hours for SF-425: Federal Financial Report.

Estimate of Annual Burden: 82.50 hours.

Type of Respondents: Public applicants.

Estimated Annual Number of Respondents: 110.

Estimated Annual Number of Responses per Respondent: 1.

Estimated Total Annual Burden on Respondents: 0.75 hours.

Burden Hours for Tribal and State Applicants

Title of Collection: Burden Hours for FS-1500-0050: Wood Innovations Funding Opportunity Application.

Estimate of Annual Burden: 330.00 hours.

Type of Respondents: Tribal and State applicants.

Estimated Annual Number of Respondents: 110.

Estimated Annual Number of Responses per Respondent: 1.

Estimated Total Annual Burden on Respondents: 3.00 hours.

Title of Collection: Burden Hours for Screenshot of active or in-process SAM.gov registration.

Estimate of Annual Burden: 110.00 hours.

Type of Respondents: Tribal and State applicants.

Estimated Annual Number of Respondents: 110.

Estimated Annual Number of Responses per Respondent: 1.

Estimated Total Annual Burden on Respondents: 1 hours.

Total Annual Burden for FS-1500-50 and Screenshot of Same Is 440 Hours

Request for Common Use Forms

Title of Collection: Burden Hours for SF-424: Application for Federal Assistance.

Estimate of Annual Burden: 24.00 hours.

Type of Respondents: Tribal and State applicants.

Estimated Annual Number of Respondents: 8.

Estimated Annual Number of Responses per Respondent: 1.

Estimated Total Annual Burden on Respondents: 3.00 hours.

Title of Collection: Burden Hours for SF-424A: Budget Information for Non-Construction Programs.

Estimate of Annual Burden: 4.00 hours.

Type of Respondents: Tribal and State applicants.

Estimated Annual Number of Respondents: 8.

Estimated Annual Number of Responses per Respondent: 1.

Estimated Total Annual Burden on Respondents: 0.50 hours.

Title of Collection: Burden Hours for SF-424B: Assurances for Non-Construction Programs.

Estimate of Annual Burden: 2.00 hours.

Type of Respondents: Tribal and State applicants.

Estimated Annual Number of Respondents: 8.

Estimated Annual Number of Responses per Respondent: 1.

Estimated Total Annual Burden on Respondents: 0.25 hours.

Title of Collection: Burden Hours for FS-1500-35: Certificate Regarding Lobbying Activities.

Estimate of Annual Burden: 2.00 hours.

Type of Respondents: Tribal and State applicants.

Estimated Annual Number of Respondents: 8.

Estimated Annual Number of Responses per Respondent: 1.

Estimated Total Annual Burden on Respondents: 0.25 hours.

Title of Collection: Burden Hours for FS-1500-22: Financial Capability Questionnaire.

Estimate of Annual Burden: 2.00 hours.

Type of Respondents: Tribal and State applicants.

Estimated Annual Number of Respondents: 8.

Estimated Annual Number of Responses per Respondent: 1.

Estimated Total Annual Burden on Respondents: 0.25 hours.

Title of Collection: Burden Hours for Interim Project Progress Report.

Estimate of Annual Burden: 6.00 hours.

Type of Respondents: Tribal and State applicants.

Estimated Annual Number of Respondents: 8.

Estimated Annual Number of Responses per Respondent: 1.

Estimated Total Annual Burden on Respondents: 0.75 hours.

Title of Collection: Burden Hours for SF-425: Federal Financial Report.

Estimate of Annual Burden: 6.00 hours.

Type of Respondents: Tribal and State applicants.

Estimated Annual Number of Respondents: 8.

Estimated Annual Number of Responses per Respondent: 1.

Estimated Total Annual Burden on Respondents: 0.75 hours.

Total Annual Burden for Request for Common Use Forms Is 46 Hours

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Jaelith Hall Rivera,
Deputy Chief, State, Private, and Tribal Forestry.

[FR Doc. 2023-10450 Filed 5-16-23; 8:45 am]

BILLING CODE 3411-15-P